DEPARTMENT OF HOMELAND SECURITY

Coast Guard

33 CFR Part 117

[Docket No. USCG-2008-0148]

Drawbridge Operation Regulations; Connecticut River, Old Lyme, CT

AGENCY: Coast Guard, DHS.

ACTION: Notice of temporary deviation from regulations.

SUMMARY: The Commander, First Coast Guard District, has issued a temporary deviation from the regulations governing the operation of the Amtrak Railroad Bridge, across the Connecticut River, mile 3.4, at Old Lyme, Connecticut. Under this temporary deviation a two-hour advance notice will be required for bridge openings between 8 p.m. and 6 a.m. during the following time periods: February 29, 2008 to March 5, 2008; March 7, 2008 to March 10, 2008; and March 14, 2008 to March 17, 2008. Notice may be given by calling the bridge on marine radio channel VHF 13, or by telephone at (860) 510-5622. Vessels that can pass under the draw without an opening may do so at all times. This deviation is necessary immediately to facilitate required bridge maintenance in order to prevent further disruption in train service and navigation.

DATES: This deviation is effective from February 29, 2008 through March 17, 2008.

ADDRESSES: Materials referred to in this document are available for inspection or copying at the First Coast Guard District, Bridge Branch Office, One South Street, New York, New York 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The Amtrak Railroad Bridge, across the Connecticut River, mile 3.4, at Old Lyme, Connecticut, has a vertical clearance in the closed position of 19 feet at mean high water and 22 feet at mean low water. The existing regulations are listed at 33 CFR 117.205.

The owner of the bridge, National Railroad Passenger Corporation (Amtrak), requested a temporary deviation to facilitate scheduled mechanical maintenance, miter rail replacement, at the bridge.

Under this temporary deviation a two-hour advance notice for bridge openings will be required between 8 p.m. and 6 a.m. during the following time periods: February 29, 2008 to March 5, 2008; March 7, 2008 to March 10, 2008, and March 14, 2008 to March 17, 2008. The advance notice may be given by calling the bridge on marine radio channel VHF 13, or by telephone at (860) 510-5622. Vessels that can pass under the draw without a bridge opening may do so at all times.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

In accordance with 33 CFR 117.35(e), the bridge must return to its regular operating schedule immediately at the end of the designated time period. This deviation from the operating regulations is authorized under 33 CFR 117.35.

Dated: February 29, 2008.
Gary Kassof,
Bridge Program Manager, First Coast Guard District.

[FR Doc. E8-4926 Filed 3-11-08; 8:45 am]

BILLING CODE 4910-15-P